FEDERAL ACCOUNTING STANDARDS ADVISORY BOARD

Notice of Issuance of Statement of Federal Financial Accounting Standards (SFFAS) No. 23)

Board Action: Pursuant to the Federal Advisory Committee Act (Pub. L. 92-463), as amended, and the FASAB Rules of Procedure, as amended in October, 1999, notice is hereby given that the Federal Accounting Standards Advisory Board has issued Statement of Federal Financial Accounting Standards (SFFAS) No. 23, Eliminating the Category National Defense Property, Plant and Equipment.

The Board approved the Statement in February 2003, and submitted it to FASAB principals for a 90-day review. The review period closed on May 8, 2003.

SFFAS No. 23 represents a major step in the process of ensuring accountability for all operating property, plant, and equipment through the framework of generally accepted accounting principles.

The standards prescribed in SFFAS No. 23 are effective for periods beginning after September 30, 2002. Hard copies of the statement will be mailed to the FASAB mailing list. It is also available on the FASAB Web site at www.fasab.gov or by calling 202-512-7350.

FOR FURTHER INFORMATION CONTACT: Wendy Comes, Executive Director, 441 G St., NW., Mail Stop 6K17V, Washington, DC 20548, or call (202) 512-7350.

Authority: Federal Advisory Committee Act. Pub. L. No. 92-463.

Dated: May 9, 2003.
Wendy M. Comes,
Executive Director.

[FR Doc. 03-12210 Filed 5-15-03; 8:45 am]

BILLING CODE 1610-01-M